DEPARTMENT OF COMMERCE

National Oceanic and Atmospheric Administration

Proposed Information Collection; Comment Request; Alaska Individual Fishing Quotas (IFQs) for Pacific Halibut and Sablefish

AGENCY: National Oceanic and Atmospheric Administration (NOAA).

ACTION: Notice (renewal of a currently approved information collection).

SUMMARY: The Department of Commerce, as part of its continuing effort to reduce paperwork and respondent burden, invites the general public and other Federal agencies to take this opportunity to comment on proposed and/or continuing information collections, as required by the Paperwork Reduction Act of 1995.

DATES: Written comments must be submitted on or before June 28, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Patsy A. Bearden, (907) 586-7008 or patsy.bearden@noaa.gov.

SUPPLEMENTARY INFORMATION:

I. Abstract

This request is for renewal of a currently approved information collection.

The Pacific Halibut and Sablefish Individual Fishing Quota (IFQ) Program was developed to reduce fishing capacity that had increased during years of management as an open access fishery, while maintaining the social and economic character of the fixed gear fishery that is relied on as a source of revenue for coastal communities in Alaska. The Halibut and Sablefish IFQ Program provides economic stability for the commercial hook-and-line fishery while reducing many of the conservation and management problems commonly associated with open access. The IFQ Program for sablefish and Pacific halibut fixed gear provides each fisherman a catch quota that can be used any time during the open season. Individual shares are intended to allow fishermen to set their own pace and adjust their fishing effort. The IFQ Program is intended to reduce the premium that was traditionally placed on speed, allowing fishermen to pay more attention to efficiency and product quality. The IFQ Program consists of three parts: IFQ halibut and sablefish, Western Alaska Community Development Quota (CDQ) halibut, and Gulf of Alaska (GOA) IFQ community quota share. This action is a request for renewal for the collection-of-information.

II. Method of Collection

Respondents have a choice of either electronic or paper forms. Methods of submittal include e-mail of electronic forms, and mail and facsimile transmission of paper forms.

III. Data

OMB Control Number: 0648-0272.

Form Number: None.

Type of Review: Regular submission (renewal of a currently approved collection).

Affected Public: Business or other for-profit organizations; individuals or households.

Estimated Number of Respondents: 2,478.

Estimated Time per Response: 2 hours for Eligibility to Receive QS/IFQ Application; 30 minutes for IFQ/CDQ Hired Master Permit Application; 30 minutes for IFQ/CDQ Registered Buyer Permit Application; 30 minutes for Application for Replacement of Certificates, Permits, or Licenses Application; 200 hours for Application to Become a Community Quota Entity (CQE); 10 hours for Community Petition to Form Governing Body; 2 hours for Transfer of QS/IFQ Application; 2 hours for Transfer of QS/IFQ by Sweep-up Application; 2 hours for Transfer of QS/IFQ to or from a CQE Application; 30 minutes for Approval of Transfer from Governing Body; 2 hours for QS Holder—Identification of Ownership Interest; 40 hours for CQE Annual Report; 4 hours for Letter of Appeal; 30 minutes for QS/IFQ Beneficiary Designation Form; 30 minutes for Annual Updates on the Status of Corporations and Partnerships QS; 6 minutes for IFQ Administrative Waiver; 12 minutes for Prior Notice of IFQ Landing; 15 minutes for Departure Report; 12 minutes for Transshipment Authorization; and 6 minutes for Dockside Sales Receipt; 18 minutes for Electronic Landing Report; 18 minutes for Manual Landing Report; 2 hours for Military Transfer; 4 hours for Military Transfer Appeal; 2 hours for Emergency Medical Transfer; and 4 hours for Emergency Medical Transfer.

Estimated Total Annual Burden Hours: 20,388.

Estimated Total Annual Cost to Public: $38,776 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 26, 2011.
Gwellnar Banks,
Management Analyst, Office of the Chief Information Officer.

[FR Doc. 2011-10394 Filed 4-28-11; 8:45 am]

BILLING CODE 3510-22-P